NUCLEAR REGULATORY COMMISSION

[NRC-2015-0106]

Standard Review Plan for Renewal of Specific Licenses and Certificates of Compliance for Dry Storage of Spent Nuclear Fuel

AGENCY: Nuclear Regulatory Commission.

ACTION: Draft NUREG; request for comment.

SUMMARY: The U.S. Nuclear Regulatory Commission (NRC) is issuing for public comment draft NUREG-1927, Revision 1, “Standard Review Plan for Renewal of Specific Licenses and Certificates of Compliance for Dry Storage of Spent Nuclear Fuel.” The draft NUREG provides guidance to the NRC staff for the safety review of renewal applications for specific licenses of independent spent fuel storage installations (ISFSIs) and certificates of compliance (CoCs) of spent fuel storage casks. The NRC is soliciting public comments on this draft NUREG and will consider received comments as it finalizes the guidance.

DATES: Submit comments by August 21, 2015. Comments received after this date will be considered if it is practical to do so, but the Commission is able to ensure consideration only for comments received before this date.

ADDRESSES: You may submit comments by any of the following methods (unless this document describes a different method for submitting comments on a specific subject):

• Federal Rulemaking Web site: Go to http://www.regulations.gov and search for Docket ID NRC-2015-0106. Address questions about NRC dockets to Carol Gallagher; telephone: 301-415-3463; email: Carol.Gallagher@nrc.gov. For technical questions, contact the individuals listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Kristina Banovac, telephone: 301-415-7116; email: Kristina.Banovac@nrc.gov; or Ricardo Torres, telephone: 301-415-7508; email: Ricardo.Torres@nrc.gov. Both are staff of the Office of Nuclear Material Safety and Safeguards, U.S. Nuclear Regulatory Commission, Washington DC 20555-0001.

SUPPLEMENTARY INFORMATION:

I. Obtaining Information and Submitting Comments

A. Obtaining Information

Please refer to Docket ID NRC-2015-0106 when contacting the NRC about the availability of information for this action. You may obtain publicly-available information related to this action by any of the following methods:

• Federal Rulemaking Web site: Go to http://www.regulations.gov and search for Docket ID NRC-2015-0106.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Draft NUREG-1927, Revision 1, “Standard Review Plan for Renewal of Specific Licenses and Certificates of Compliance for Dry Storage of Spent Nuclear Fuel” is available in ADAMS under Accession No. ML15180A011.

• NRC's PDR: You may examine and purchase copies of public documents at the NRC's PDR, Room O1-F21, One White Flint North, 11555 Rockville Pike, Rockville, Maryland 20852.

B. Submitting Comments

Please include Docket ID NRC-2015-0106 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

NUREG-1927, Revision 0, “Standard Review Plan for Renewal of Spent Fuel Dry Cask Storage System Licenses and Certificates of Compliance” (ADAMS Accession No. ML111020115) was published in March 2011 to provide guidance to the staff for the safety review of renewal applications for specific licenses of ISFSIs and CoCs of spent fuel storage casks. Since that time, staff's experience with spent fuel storage renewal reviews has indicated a need for augmented and clarified guidance. In 2014, the staff engaged with stakeholders in public meetings to obtain input on potential changes to the guidance. The staff developed the revised guidance in draft NUREG-1927, Revision 1, which addresses staff's recent review experience and valuable input received from stakeholders.

Proposed changes and clarifications have been made throughout draft NUREG-1927, Revision 1.

The staff expanded guidance in the following areas:

• Application content;

• Scoping evaluation;

• Aging management review;

• Time-limited aging analyses; and

• Elements of an aging management program (AMP).

The staff developed new guidance in the following areas:

• Timely renewal;

• Amendment applications submitted during renewal reviews and after the renewal is issued;

• Use of conditions for ensuring AMPs remain adequate during the period of extended operation;

• Commencement of AMPs for CoC renewals;

• Implementation of AMPs; and

• Learning AMPs that consider and respond to operating experience.

The staff expanded guidance on scoping and aging management of fuel internals, which consolidated the discussion on retrievability in Revision 0. The staff deleted appendices that added minimal value to the review process and developed new appendices on the following topics:

• Example AMPs;

• Lead system inspections;

• Use of a demonstration program as a surveillance tool for high burnup fuel performance;

• Considerations for CoC renewals; and

• Storage terms (and calculation of length of time that a dry cask storage system can remain loaded).

The staff will review and consider public comments received on draft NUREG-1927, Revision 1, as it finalizes the guidance. Although comments are invited on any areas of the draft guidance, the staff is specifically seeking input on the following areas: AMP discussion in Section 3.6; example AMPs in Appendix B; lead system inspections in Appendix C; and the aging management review consideration of the duration of time between the fabrication of a component and its deployment in the ISFSI, in Chapter 3. In addition, the staff invites comments on options for an operating experience sharing program to be used to obtain, aggregate, and enter site-specific and industry-wide operating experience, as discussed in Section 3.6.1.10.

Dated at Rockville, Maryland, this 25th day of June 2015.
For the Nuclear Regulatory Commission.
Anthony H. Hsia,
Deputy Director, Division of Spent Fuel Management, Office of Nuclear Material Safety and Safeguards.

[FR Doc. 2015-16540 Filed 7-6-15; 8:45 am]

BILLING CODE 7590-01-P